DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 80 FR 81341-81344 dated December 29, 2015).

This notice reflects organizational changes in the Health Resources and Services Administration (HRSA), HIV/AIDS Bureau (RV). Specifically, this notice: (1) Establishes the Division of Administrative Operations (RV21) within the Office of Operations and Management (RV2).

Chapter RV—HIV/AIDS Bureau

Section RV-10, Organization

Delete the organization for the Office of Operations and Management (RV2) in its entirety and replace with the following:

The Office of Operations and Management (RV2) is directed by the Director/Executive Officer who reports directly to the Associate Administrator, HIV/AIDS Bureau (RV). The Associate Administrator, HIV/AIDS Bureau reports directly to the Administrator, Health Resources and Services Administration. The Office of Operations and Management include the following components:

(1) Office of Operations and Management (RV2); and

(2) Division of Administrative Operations (RV21).

Section RV-20, Functions

This notice reflects organizational changes in the Health Resources and Services Administration (HRSA), Office of Operations and Management (RV2). Specifically, this notice: (1) Establishes the Division of Administrative Operations (RV21).

Establish the functional statement for the Division of Administrative Operations (RV21) within the Office of Operations and Management (RV2).

Office of Operations and Management (RV2)

The Office of Operations and Management is directed by the Director/Executive Officer for the HIV/AIDS Bureau. The Office provides expertise guidance, leadership, and support in the areas of: Administration, fiscal operations, and contract administration. The Office of Operations and Management is responsible for providing direction on all budgetary, administrative, human resources, operations, facility management, contracting, organizational development, training and technological developments for the HIV/AIDS Bureau. The Office also oversees and coordinates all Bureau program integrity activities.

Division of Administrative Operations (RV21)

The Division of Administrative Operations is responsible for the administrative, human resources operations, facility management, contracting, organizational development/training functions and fiscal operations for the Bureau.

Delegations of Authority

All delegations of authority and re-delegations of authority made to HRSA officials that were in effect immediately prior to this reorganization, and that are consistent with this reorganization, shall continue in effect pending further re-delegation.

This reorganization is effective upon date of signature.

Dated: February 17,2016.
James Macrae,
Acting Administrator.

[FR Doc. 2016-04529 Filed 3-1-16; 8:45 am]

BILLING CODE 4165-15-P